NATIONAL AERONAUTICS AND SPACE ADMINISTRATION

[Notice (03-074)]

NASA Space Science Advisory Committee, Solar System Exploration Subcommittee; Meeting

AGENCY: National Aeronautics and Space Administration.

ACTION: Notice of meeting.

SUMMARY: The National Aeronautics and Space Administration announces a meeting of the NASA Space Science Advisory Committee (SScAC), Solar System Exploration Subcommittee (SSES).

DATES: Wednesday, July 16, 2003, 8:30 a.m. to 5 p.m.; Thursday, July 17, 2003, 8:30 a.m. to 5 p.m.; and Friday, July 18, 2003, 8:30 a.m. to noon.

ADDRESSES: National Aeronautics and Space Administration, Room 3H46, 300 E Street, SW., Washington, DC 20546.

FOR FURTHER INFORMATION CONTACT: Dr. Jay Bergstralh, Code SE, National Aeronautics and Space Administration, Washington, DC 20546, 202/358-0313.

SUPPLEMENTARY INFORMATION: The meeting will be open to the public up to the seating capacity of the room. The agenda for the meeting is as follows:

—Status of Solar System Exploration

—Status of Mars Exploration Program

—Status of Project Prometheus

—Cost Overruns on Cost-Capped Missions

—International Collaborations

—GPRA Evaluations

Attendees will be requested to sign a register and to comply with NASA security requirements, including the presentation of a valid picture ID, before receiving an access badge. Foreign nationals attending this meeting will be required to provide the following information: full name; gender; date/place of birth; citizenship; visa/greencard information (number, type, expiration date); employer/affiliation information (name of institution, address, country, phone); title/position of attendee. To expedite admittance, attendees can provide identifying information in advance by contacting Dr. Jay Bergstralh via email at Jay.T.Bergstralh@nasa.gov or by telephone at 202/358-0313 or Kay Butzke via email at glenda.K.butzke@nasa.gov or by telephone at 202/358-0730. Attendees will be escorted at all times. It is imperative that the meeting be held on these dates to accommodate the scheduling priorities of the key participants. Visitors will be requested to sign a visitor's register.

June W. Edwards,
Advisory Committee Management Officer, National Aeronautics and Space Administration.

[FR Doc. 03-16312 Filed 6-26-03; 8:45 am]

BILLING CODE 7510-01-P